DEPARTMENT OF LABOR

Occupational Safety and Health Administration

[Docket No. OSHA-2007-0011]

Federal Advisory Council on Occupational Safety and Health (FACOSH)

AGENCY: Occupational Safety and Health Administration (OSHA), Labor.

ACTION: Appointment of new members.

SUMMARY: On September 28, 2007, the Secretary of Labor appointed six new members to the Federal Advisory Council on Occupational Safety and Health (FACOSH).

FOR FURTHER INFORMATION CONTACT: Ms. Diane Brayden, Director, OSHA, Office of Federal Agency Programs, U.S. Department of Labor, 200 Constitution Avenue, NW., Room 3622, Washington, DC 20210; telephone (202) 693-2122; fax (202) 693-1685; e-mail ofap@dol.gov.

SUPPLEMENTARY INFORMATION: FACOSH is authorized to advise the Secretary of Labor on all matters relating to the occupational safety and health of Federal employees (Occupational Safety and Health Act of 1970 (29 U.S.C. 668), 5 U.S.C. 7902, Executive Order 13446). This includes providing advice on how to reduce and keep to a minimum the number of injuries and illnesses in the Federal workforce and how to encourage the establishment and maintenance of effective occupational safety and health programs in each Federal department and agency.

FACOSH consists of 16 members, divided equally between representatives of Federal agencies and labor organizations representing Federal employees. FACOSH members serve three-year terms.

FACOSH Member Appointments: OSHA published a request for FACOSH nominations in the Federal Register (72 FR 7467-7468 (3/2/2007)), and received nominations for seventeen individuals. On September 28, 2007, the Secretary of Labor appointed the following five individuals to serve three-year terms ending in June 2010:

• Mr. Ralph E. Dudley, Tennessee Valley Authority,

• Ms. Kathleen J.H. Wheeler, U.S. Department of the Interior,

• Ms. Colleen M. Kelley, National Treasury Employees Union,

• Mr. William D. “Chico” McGill, International Brotherhood of Electrical Workers, and

• Mr. Chester G. Wheeler, Jr., Seafarers International Union.

In addition, the Secretary of Labor appointed Mr. Paul Hutter, U.S. Department of Veterans Affairs, to fill the remainder of a term that expires in June 2009.

Authority and Signature: Edwin G. Foulke, Jr., Assistant Secretary of Labor for Occupational Safety and Health, directed the preparation of this notice under the authority granted by section 19 of the Occupational Safety and Health Act of 1970 (29 U.S.C. 668), 5 U.S.C. 7902, section 1(c) of Executive Order 13446, the Federal Advisory Committee Act (5 U.S.C. App. 2), and Secretary of Labor's Order No. 5-2007 (72 FR 31160).

Signed at Washington, DC, this 9th day of November, 2007.
Edwin G. Foulke, Jr.,
Assistant Secretary of Labor for Occupational Safety and Health.

[FR Doc. E7-22310 Filed 11-14-07; 8:45 am]

BILLING CODE 4510-26-P